DEPARTMENT OF ENERGY

Notice of 229 Boundary Revision for the East Tennessee Technology Park (Formerly the Oak Ridge Gaseous Diffusion Plant, K-25)

AGENCY: Department of Energy (DOE).

ACTION: Notice of 229 Boundary Revisions for the East Tennessee Technology Park (ETTP) (formerly the Oak Ridge Gaseous Diffusion Plant, K-25).

SUMMARY: Notice is hereby given that the U.S. Department of Energy, pursuant to Section 229 of the Atomic Energy Act of 1954, as amended, as implemented by 10 CFR part 860 published in the Federal Register (FR) on August 26, 1963 (28 FR 8400), prohibits the unauthorized entry, as provided in 10 CFR 860.3 and the unauthorized introduction of weapons or dangerous materials, as provided in 10 CFR 860.4, into or upon the following described facilities of the ETTP of the United States Department of Energy. The following amendments are made:

The U.S. Department of Energy installation known as the ETTP is located in the Second Civil District of Roane County, Tennessee, within the corporate limits of the city of Oak Ridge, on the north side of Highway 58 (Oak Ridge Turnpike) approximately one mile east of Gallaher Bridge which spans the Clinch River. The previous ETTP 229 Security Boundary contained 3 areas which totaled 422 acres. This revised ETTP 229 Security Boundary for ETTP is divided into 4 areas totaling 168.7 acres. Area 1 is 135.8 acres and is known as the K-25/K-27 Project Site. Area 2 is 6.5 acres and is known as the K-1070-B. Area 3 is 24.8 acres known as K-1070-C & -D. Area 4 is 1.6 acres known as the K-1650 (Y-12 facility). The 229 Security Boundary for these areas is indicated by chain link fencing and/or cable and post configuration which surrounds each of the four areas.

FOR FURTHER INFORMATION CONTACT: Ms. Cindy Finn, Real Estate Contracting Officer DOE Oak Ridge Office, Post Office Box 2001, Oak Ridge, Tennessee 37831, Telephone: (865) 576-4431, Facsimile: (865) 241-9494.

SUPPLEMENTARY INFORMATION: This security boundary is designated pursuant to Section 229 of the Atomic Energy Act of 1954. This revised boundary supersedes and/or re-describes the entries previously contained in the FR notice published October 19, 1965 at 30 FR 13285; amended on March 30, 1967 at 32 FR 5384; and April 21, 1983 at 48 FR 17134; and January 23, 2008, at 73 FR 3950 for the ETTP of the United States Department of Energy.

Issued in Oak Ridge, Tennessee, on June 12, 2014.
Cindy B. Finn,
Real Estate Contracting Officer.

[FR Doc. 2014-14819 Filed 6-24-14; 8:45 am]

BILLING CODE 6450-01-P